DEPARTMENT OF DEFENSE

Department of the Army

Final Environmental Assessment (EA) and Finding of No Significant Impact (FNSI) for BRAC 95 Disposal and Reuse of Rio Vista Army Reserve Center, California

AGENCY: Department of the Army, DoD.

ACTION: Notice of availability.

SUMMARY: In accordance with Public Law 101-510 (as amended), the Defense Base Closure and Realignment Act of 1990, the Defense Base Closure and Realignment Commission recommended the closure of Rio Vista Reserve Center.

The Final EA evaluates the environmental impacts of the disposal and subsequent reuse of the 28-acre installation. Alternatives examined in this EA include no action, unencumbered disposal of the property and encumbered disposal of the property. Encumbered disposal refers to transfer or conveyance of property having restrictions on subsequent use as a result of any Army-imposed or legal restraint. Under the no action alternative, the Army would not dispose of property but would maintain it in a caretaker status for an indefinite period.

DATES: Comments must be submitted by December 11, 2000.

ADDRESSES: Copies of the Final EA and FNSI may be obtained by writing to Mr. Jerry Fuentes, Corps of Engineers, Sacramento District, Environmental Resources Branch (CESPK-PD-R), 1325 J Street, Sacramento, CA 95814.

FOR FURTHER INFORMATION CONTACT: Mr. Jerry Fuentes at (916) 557-6706.

SUPPLEMENTARY INFORMATION: While closure of Rio Vista is the Army's primary action, the EA also analyzes the potential environmental effects of reuse as a secondary impact by means of evaluating intensity-based reuse scenarios. The Army's preferred alternative for disposal of the Rio Vista Reserve Center is encumbered disposal, with encumbrances pertaining to easements, threatened and endangered species habitat, lead-based paint and asbestos-containing material.

A Notice of Intent declaring the Army's intent to prepare an EA for the closure of Rio Vista Reserve Center was published in the Federal Register on September 22, 1995 (60 FR 49264).

The Final EA and FNSI are available for review at the Rio Vista Library, 167 Main St, Rio Vista, CA 94571.

Dated: September 26, 2000.
Richard E. Newsome,
Acting Deputy Assistant Secretary of the Army (Environment, Safety and Occupational Health) OASA (I&E).

[FR Doc. 00-28777 Filed 11-8-00; 8:45 am]

BILLING CODE 3710-08-M